DEPARTMENT OF THE INTERIOR

National Park Service

[NPS-WASO-NRNHL-DTS#-35433; PPWOCRADI0, PCU00RP14.R50000]

National Register of Historic Places; Notification of Pending Nominations and Related Actions

AGENCY: National Park Service, Interior.

ACTION: Notice.

SUMMARY: The National Park Service is soliciting electronic comments on the significance of properties nominated before February 25, 2023, for listing or related actions in the National Register of Historic Places.

DATES: Comments should be submitted electronically by March 23, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 25, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

COLORADO

Moffat County

Craig School #2, 775 Yampa Ave., Craig, SG100008788

DELAWARE

New Castle County

Rockwood Estate Historic District (Boundary Decrease), 4651 Washington St. Extention, Wilmington vicinity, BC100008808

GEORGIA

Chatham County

Ardmore-Chatham Terrace Historic District, Roughly bounded by 51st Ln., Waters Ave., halfway between Habersham and Battey Sts., and 55th Ln., Savannah, SG100008800

KANSAS

Dickinson County

Liggett, William and Minnie, House, 519 North D St., Herington, SG100008787

Leavenworth County

Holman, Alice and Edwin, Farmstead, (Agriculture-Related Resources of Kansas MPS), 26352 New Lawrence Dr., Leavenworth, MP100008785

Russell County

House at 202 West 3rd Street, (Post Rock Limestone Properties in Kansas, 1870—1948 MPS), 202 West 3rd St., Luray, MP100008786

MICHIGAN

Ingham County

Barnes Avenue School, 1028 West Barnes Ave., Lansing, SG100008811

Wayne County

Pittsburgh Plate Glass Company Detroit Warehouse, 6045 John C. Lodge Service Dr., Detroit, SG100008812

MINNESOTA

Fillmore County

McMichael Grain Elevator, (Grain Elevator Design in Minnesota MPS), 205 Main Ave. North, Harmony, MP100008805

Ramsey County

Fire Station No. 19, 1570 Highland Pkwy., St. Paul, SG100008806

NEW HAMPSHIRE

Belknap County

Gilman, Dudley, Homestead, 60 Mile Hill Rd., Belmont, SG100008793

NEW YORK

Erie County

Charles Berrick's Sons Florida Street Houses, 84, 88, 90, 94, 96, 100, and 102 Florida St., Buffalo, SG100008801

TENNESSEE

Davidson County

Exit/In, 2208 Elliston Pl., Nashville, SG100008789

WISCONSIN

Dane County

Schroeder-Bohrod House, 4811 Tonyawatha Trail, Monona, SG100008790

Walworth County

Heart Prairie Norwegian Methodist Episcopal Church, N7372 Cty. Rd. P, Richmond, SG100008810

Washington County

Lizard Mound (Boundary Increase), 2121 Cty. Rd. A, Farmington, BC100008804

Additional documentation has been received for the following resources:

DELAWARE

New Castle County

Rockwood Estate Historic District (Additional Documentation), 4651 Washington St. Extention, Wilmington, AD76000579

TENNESSEE

Bedford County

Shofners' Lutheran Church and Cemetery (Additional Documentation), Alt US 41, 2 mi. west of jct. of Alt. US 41 and TN 130, Shelbyville vicinity, AD97001232

Blount County

McConnell, John, House (Additional Documentation), (Blount County MPS), 1435 McConnell Rd., Greenback vicinity, AD89000898

Houston County

Erin Limekilns (Additional Documentation), (Lime Industry of Houston County, Tennessee), 78 McMillan St., Erin, AD04001230

Shelby County

Magevney House (Additional Documentation), 198 Adams Ave., Memphis, AD73001831

WISCONSIN

Washington County

Lizard Mound (Additional Documentation), 2121 Cty. Rd. A, Farmington, AD70000038

Authority: Section 60.13 of 36 CFR part 60.

Dated: March 1, 2023.
Sherry A Frear,
Chief, National Register of Historic Places/National Historic Landmarks Program.

[FR Doc. 2023-04714 Filed 3-7-23; 8:45 am]

BILLING CODE 4312-52-P